DEPARTMENT OF JUSTICE

Drug Enforcement Administration

[No. 06-45]

Paul H. Volkman; Denial of Application

Correction

In notice document E8-11851 beginning on page 30630 in the issue of Wednesday, May 28, 2008 make the following correction:

On page 30641, in the third column, “³⁶No footnote.” should read “³⁶At the time he submitted his renewal and modification applications, Respondent's registration had been immediately suspended. It would make no sense to construe this provision as excusing a registrant who is under an immediate suspension (and who has been preliminarily found to pose an imminent danger to public health and safety) from compliance with the 45-day requirement for timely filing of a renewal application. Of course, even when a registrant under an immediate suspension complies with the 45-day rule, his registration does not continue in effect past the expiration date.”

[FR Doc. Z8-11851 Filed 6-6-08; 8:45 am]

BILLING CODE 1505-01-D

DEPARTMENT OF TRANSPORTATION

Fish and Wildlife Service

50 CFR Part 17

[FWS-R2-ES-2008-0055; 92210-1117-0000-FY08-B4]

RIN 1018-AV46

Endangered and Threatened Wildlife and Plants; Revised Designation of Critical Habitat for the Wintering Population of the Piping Plover (Charadrius melodus) in Texas

Correction

In proposed rule document E8-10742 beginning on page 29294, in the issue of Tuesday, May 20, 2008, make the following corrections:

(1) On page 29300, in the second column, in paragraph (3) in the first line “TX 0910” should read “TX-10”.

(2) On the same page, in the same column, in the same paragraph, in lines 6, 9, and 18 “TX 0910C and TX 0910 C” are corrected to read “TX-10C”.

(3) On the same page, in the third column, in paragraph (4) in the first line, “TX 0914” should read “TX-14”.

(4) On the same page, in the same column, in paragraph (5) “TX 0917” should read “TX-17”.

(5) On the same page, in the same column, in the last paragraph, lines 13 and 14 should read “vacated until TX-17 is not described because we are not proposing that it be”.

[FR Doc. Z8-10742 Filed 6-6-08; 8:45 am]

BILLING CODE 1505-01-D

DEPARTMENT OF THE TREASURY

Internal Revenue Service

26 CFR Parts 1 and 301

[TD 9391]

RIN 1545-BF85

Source Rules Involving U.S. Possessions and Other Conforming Changes

Correction

In rule document 08-1105 beginning on page 19350 in the issue of Wednesday, April 9, 2008 make the following corrections:

1. On page 19357, in the third column, in the first paragraph, in the last line, “§601.601(d)(2)(ii)(b)” should read “§601.601(d)(2)(ii)(b)”.

§1.937-2 [Corrected]

2. On page 19373, in §1.937-2(k) at Example 1.(ii), the equation is being reprinted correctly as set forth below.

[FR Doc. C8-1105 Filed 6-6-08; 8:45 am]

BILLING CODE 1505-01-D